DEPARTMENT OF THE INTERIOR

Minerals Management Service

Outer Continental Shelf (OCS), Alaska OCS Region

AGENCY: Minerals Management Service, Interior.

ACTION: Notice of availability of the final environmental impact statement (EIS) for the proposed Liberty Development and Production Project in Beaufort Sea, Alaska.

SUMMARY: MMS announces the availability of the final EIS prepared by MMS for the Liberty Project in Foggy Island Bay offshore Beaufort Sea, Alaska.

FOR FURTHER INFORMATION CONTACT: Persons interested in reviewing the final EIS “OCS EIS/EA, MMS 2002-19” (Volumes I-IV) can contact the MMS Alaska OCS Region. The documents are available for public inspection between the hours of 8 a.m. and 4 p.m., Monday through Friday at: Minerals Management Service, Alaska OCS Region, Resource Center, 949 East 36th Avenue, Room 330, Anchorage, Alaska 99508-4363, telephone: (907) 271-6070, or (907) 271-6621, or toll free at 1-800-764-2627. Requests may also be sent to MMS at akwebmaster@mms.gov. You may obtain single copies of the final EIS, or a CD/ROM version, or the Executive Summary from the same address.

You may look at copies of the final EIS in the following libraries:

Alaska Pacific University, Academic Support Center Library, 4101 University Drive, Anchorage, Alaska;

Alaska Resources Library and Information Service, U.S. Department of the Interior, 3150 C Street, Suite 100, Anchorage, Alaska;

Alaska State Library, Government Publications, State Office Building, 333 Willoughby, Juneau, Alaska;

Canadian Joint Secretariat Librarian, Inuvikon Northwest Territories, Canada;

Department of Indian and Northern Affairs, Yellowknife, Northwest Territories, Canada;

Fairbanks North Star Borough, Noel Wien Library, 1215 Cowles Street, Fairbanks, Alaska;

Ilisaavik Library, Shishmaref, Alaska;

Juneau Public Library, 292 Marine Way, Juneau, Alaska;

Kaveolook School Library, Kaktovik, Alaska;

Kegoyah Kozpa Public Library, Nome, Alaska;

National Oceanic and Atmospheric Administration, Information Services Division, Seattle, Washington;

North Slope Borough School District, Library/Media Center, Barrow, Alaska;

Northern Alaska Environmental Center Library, 218 Driveway, Fairbanks, Alaska;

Tikigaq Library, Point Hope, Alaska;

Tuzzy Consortium Library, Barrow, Alaska;

University of Alaska Anchorage, Consortium Library, 3211 Providence Drive, Anchorage, Alaska;

University of Alaska Fairbanks, Elmer E. Rasmuson Library, Government Documents, 310 Tanana Drive, Fairbanks, Alaska;

University of Alaska Fairbanks, Geophysical Institute, Government Documents, Fairbanks, Alaska;

University of Alaska Fairbanks, Institute of Arctic Biology, 311 Irving Building, Fairbanks, Alaska;

University of Alaska, Southeast, 11120 Glacier Highway, Juneau, Alaska;

U.S. Army Corps of Engineers Library, U.S. Department of Defense, Elmendorf Air Force Base, Anchorage, Alaska;

U.S. Fish and Wildlife Service Library, 1011 East Tudor Road, Anchorage, Alaska;

Valdez Consortium Library, 200 Fairbanks Street, Valdez, Alaska;

Z.J. Loussac Library, 3600 Denali Street, Anchorage, Alaska.

SUPPLEMENTARY INFORMATION: Proposal. The British Petroleum Exploration (Alaska) (BPXA) Inc. submitted a proposal to develop the Liberty oil field from a manmade gravel island constructed on the Federal OCS in Foggy Island Bay in approximately 22 feet of water inside the barrier islands. The Liberty Project, which is located approximately 5 miles offshore the central Beaufort coast, is about midway between Point Brower to the west and Tigvariak Island to the east. The proposed island would be located in federal waters between McClure Islands and the coast. The overall project includes a gravel island, associated infrastructure, subsea buried oil pipeline (6.1 miles long), and an above-ground onshore pipeline (approximately 1.5 miles long) south to tie in with the Badami common carrier pipeline system, a new onshore gravel mine site, and ice roads.

The Development and Production Plan (DPP) for the Liberty Project requires approval by MMS, the lead permitting agency, and by the U.S. Army Corps of Engineers (COE), Alaska District Office, and the U.S. Environmental Protection Agency (EPA), Region 10, which are cooperating agencies. Together, these agencies have federal jurisdiction over the development and production of the oil resources, including construction, drilling, production, and transportation from the project to a common carrier pipeline. Additional permits from the State of Alaska and from the North Slope Borough would be required.

MMS held a series of scoping meetings in Alaska. Based on the most significant issues raised in those meetings, MMS identified and evaluated a variety of alternatives in the EIS. Including BPXA's proposal, these alternatives examine: three island locations and pipeline routes; four pipeline designs; two types of upper slope protection for the production island; two gravel mine sites; two pipeline burial depths; and some combinations of these possibilities. The final EIS also examines the No Action alternative. MMS and the cooperating agencies held public hearings in Alaska in February 2000. MMS received both written and oral comments, which were incorporated in the final EIS.

Change in Status

In January 2002, BPXA publicly announced they were putting the Liberty Project on hold pending an ongoing re-evaluation of project configuration and costs. On March 5, 2002, BPXA sent a letter to MMS and other agencies stating that pending completion of project re-evaluation, affected agencies should consider submitted permit applications incomplete and recommended processing of these applications be suspended. Also in March, BPXA indicated informally that submission of a modified DPP for the Liberty Project would likely take 6 months or more.

MMS has decided to publish and file with EPA this final EIS for the Liberty DPP because it includes substantial changes made in response to comments on the draft EIS. Also, MMS expects this final EIS will serve as a reference document for future projects. The COE and EPA, as cooperating agencies, had intended to use this final EIS as the National Environmental Policy Act (NEPA) document supporting permitting decisions by these agencies.

The COE and EPA hereby solicit comments on the adequacy of, and alternatives considered in, this final EIS. Due to the applicant's re-evaluation of the project design, and the incomplete status of permit applications, the COE and EPA are not soliciting comments on their permit decisions at this time. When revised permit applications are received with project changes, the COE and EPA will issue public notices to request comments on the project proposal. Depending on the changes made, comments received, and any new information available, the three agencies will evaluate whether or not to use this final EIS as the primary NEPA documentation, issue a supplemental EIS, or issue new environmental documentation to meet the agencies' respective NEPA compliance and permit evaluation requirements.

Any written comments on this final EIS should be provided to MMS. Address your comments to the Regional Director, Alaska OCS Region, Minerals Management Service, 949 East 36th Avenue, Room 308, Anchorage, Alaska 99508-4363. Our practice is to make comments, including the names and home address of respondents, available for public review. An individual commenter may ask that we withhold their name, home address, or both from the public record, and we will honor such a request to the extent allowable by law. If you submit comments and wish us to withhold such information, you must state so prominently at the beginning of your submission. We will not consider anonymous comments, and we will make available for inspection in their entirety all comments submitted by organizations or businesses or by individuals identifying themselves as representatives of organizations or businesses.

Dated: May 16, 2002.
Thomas A. Readinger,
Associate Director for Offshore Minerals Management.

[FR Doc. 02-12787 Filed 5-21-02; 8:45 am]

BILLING CODE 4310-MR-P